DEPARTMENT OF COMMERCE

International Trade Administration

[A-427-001]

Continuation of Antidumping Duty Order: Sorbitol From France

AGENCY: Import Administration, International Trade Administration, Department of Commerce.

ACTION: Notice of continuation of antidumping duty order: Sorbitol from France.

SUMMARY: The Department of Commerce (“the Department”) has determined that revocation of the antidumping duty order on sorbitol from France, would be likely to lead to continuation or recurrence of dumping. Therefore, the Department is publishing notice of the continuation of the antidumping duty order on sorbitol from France.

DATES: Effective Date: August 5, 2004.

FOR FURTHER INFORMATION CONTACT: Contact Information: Hilary E. Sadler, Esq., Office of Policy, Import Administration, International Trade Administration, U.S. Department of Commerce, 14th Street and Constitution Ave., NW., Washington, DC 20230; telephone: (202) 482-4340.

SUPPLEMENTARY INFORMATION:

Background

On February 2, 2004, the Department initiated and the Commission instituted a sunset review of the antidumping duty order on sorbitol from France, pursuant to section 751(c) of the Act.¹ As a result of its review, the Department found that revocation of the antidumping duty order would likely lead to continuation or recurrence of dumping and notified the International Trade Commission (“ITC”) of the magnitude of the margins likely to prevail were the order revoked.² On July 23, 2004, the ITC determined pursuant to section 751(c) of the Act, that revocation of the antidumping duty order on sorbitol from France would likely lead to continuation or recurrence of material injury to an industry in the United States within a reasonably foreseeable time.³

¹ See Initiation of Five-year (“Sunset”) Reviews, 69 FR 4921 (February 2, 2004).

² See Sorbitol from France: Final Results of the Sunset Review of Antidumping Duty Order, 69 FR 34652 (June 22, 2004).

³ See Sorbitol From France, 69 FR 44061 (July 23, 2004), and USITC Publication 3702 (July 2004) (Second Review), Investigation No. 731-TA-149.

Scope of the Order

The merchandise covered by this order is crystalline sorbitol, a polyol produced by the hydrogenation of sugars (glucose), used in the production of sugarless gum, candy, groceries, and pharmaceuticals, currently classifiable under U.S. Harmonized Tariff Schedule item number 2905.44.00.

Determination

As a result of the determinations by the Department and ITC that revocation of this antidumping duty order would likely lead to continuation or recurrence of dumping and material injury to an industry in the United States, pursuant to section 751(d)(2) of the Act, the Department hereby orders the continuation of the antidumping duty order on sorbitol from France. The effective date of continuation of this order will be the date of publication in the Federal Register of this Notice of Continuation. Pursuant to sections 751(c)(2) and 751(c)(6) of the Act, the Department intends to initiate the next five-year review of this order not later than July 2009.

Dated: July 30, 2004.
Joseph A. Spetrini,
Acting Assistant Secretary for Import Administration.

[FR Doc. 04-17918 Filed 8-4-04; 8:45 am]

BILLING CODE 3510-DS-P